DEPARTMENT OF THE INTERIOR

[FWS-R4-ES-2025-N036; FVHC98220410150-XXX-FF04H00000]

Deepwater Horizon Oil Spill Louisiana and Open Ocean Trustee Implementation Groups; Final Joint Restoration Plan and Environmental Assessment #1: Wetlands, Coastal, and Nearshore Habitats, Federally Managed Lands, Fish and Water Column Invertebrates, Sea Turtles, Submerged Aquatic Vegetation, and Birds Restoration of the Chandeleur Islands and Finding of No Significant Impact

AGENCY: Department of the Interior.

ACTION: Notice of availability.

SUMMARY: The natural resource trustee agencies for the Louisiana and Open Ocean Trustee Implementation Groups (the TIGs) have prepared and are making available to the public the Final Joint Restoration Plan and Environmental Assessment #1: Wetlands, Coastal, and Nearshore Habitats, Federally Managed Lands, Fish and Water Column Invertebrates, Submerged Aquatic Vegetation, Sea Turtles, and Birds Restoration of the Chandeleur Islands (Final RP/EA) and Finding of No Significant Impact (FONSI). The Final RP/EA analyzes projects to partially restore resources injured in the Deepwater Horizon (DWH) oil spill. The Final RP/EA evaluates a reasonable range of six action alternatives under the Oil Pollution Act (OPA), including criteria set forth in the OPA natural resource damage assessment (NRDA) regulations, and the National Environmental Policy Act (NEPA). A No Action alternative is also analyzed pursuant to NEPA. The total cost to implement the TIGs' two selected alternatives is approximately $372,000,000. The TIGs intend to allocate approximately $247,000,000 in DWH NRDA funds to implement the selected alternatives and the State of Louisiana is actively pursuing additional funding sources.

ADDRESSES: Obtaining Documents: You may download the Final RP/EA and FONSI at https://www.gulfspillrestoration.noaa.gov/restoration-areas/louisiana. Alternatively, you may request a USB flash drive containing the Final RP/EA and FONSI (see FOR FURTHER INFORMATION CONTACT).

FOR FURTHER INFORMATION CONTACT: Amy Mathis, at amy_mathis@fws.gov or 251-401-2172. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Introduction

On April 20, 2010, the mobile offshore drilling unit Deepwater Horizon (DWH), which was drilling a well for BP Exploration and Production, Inc. (BP), experienced a significant explosion, fire, and subsequent sinking in the Gulf of America, resulting in the release of millions of barrels of oil and other discharges into the Gulf. Under the authority of the Oil Pollution Act of 1990 (OPA; 33 U.S.C. 2701 et seq.), designated Federal and State trustees, acting on behalf of the public, assessed the injuries to natural resources and prepared the Deepwater Horizon Oil Spill Final Programmatic Damage Assessment and Restoration Plan and Final Programmatic Environmental Impact Statement (Final PDARP/PEIS), and subsequent record of decision (ROD), which sets forth the governance structure and process for DWH restoration planning under the OPA's natural resource damage assessment (NRDA). On April 4, 2016, the United States District Court for the Eastern District of Louisiana entered a consent decree resolving civil claims by the Trustees against BP.

The Louisiana and Open Ocean Trustee Implementation Group (TIG) is composed of the State of Louisiana Coastal Protection and Restoration Authority, Oil Spill Coordinator's Office, Departments of Environmental Quality, Wildlife and Fisheries, and Natural Resources, the U.S. Environmental Protection Agency (EPA), the U.S. Department of the Interior (DOI), the National Oceanic and Atmospheric Administration (NOAA), and the U.S. Department of Agriculture (USDA). The Open Ocean TIG is composed of the EPA, DOI, NOAA, and the USDA. Each TIG selects and implements restoration projects under that TIG's management authority in accordance with the Consent Decree. The Final PDARP/PEIS, ROD, Consent Decree, and information on the DWH Trustees can be found at https://www.gulfspillrestoration.noaa.gov/restoration-planning/gulf-plan.

Background

On September 9, 2024, the Louisiana and Open Ocean TIGs posted a “Notice of Intent to Conduct Restoration Planning” on the NOAA Gulf Spill Restoration website informing the public that they were beginning to jointly write a draft restoration plan that would build upon previous engineering and design work funded by DWH Trustees to evaluate options for restoration of the Chandeleur Islands, addressing injuries to multiple resources caused by the DWH oil spill. The Final Joint Restoration Plan and Environmental Assessment #1: Wetlands, Coastal, and Nearshore Habitats, Federally Managed Lands, Fish and Water Column Invertebrates, Submerged Aquatic Vegetation, Sea Turtles, and Birds Restoration of the Chandeleur Islands (Final RP/EA) includes a reasonable range of six action alternatives and selects two preferred alternatives for implementation.

The TIGs released the Draft Joint RP/EA #1 for public review and comment and published a notice of availability in the Federal Register on June 13, 2025 (90 FR 25072). To facilitate public understanding of the document, the TIGs held a public webinar on June 26, 2025, during which the public could make comments on the plan. After the public review period closed on July 16, 2025, the TIGs reviewed the comments received, prepared responses to those comments, finalized the plan, and prepared a FONSI.

Overview of the Louisiana and Open Ocean TIGs' Final RP/EA

The Final RP/EA is being released in accordance with OPA, its implementing NRDA regulations found in the Code of Federal Regulations (CFR) at 15 CFR part 990, the National Environmental Policy Act (42 U.S.C. 4321 et seq.), the Final PDARP/PEIS, and the consent decree. The Final RP/EA provides OPA and NEPA analyses for a reasonable range of six action alternatives. Four of the action alternatives are habitat improvement alternatives with various island restoration features, including beach and dune fill, marsh fill, sand reservoirs, pocket marshes, and feeder beaches. The selected habitat improvement alternative (Habitat Restoration Alternative 5) would provide the greatest sustained gains in beach/dune and marsh habitat acreage compared to the other habitat improvement alternatives, is the most cost-effective, and has the highest likelihood of success. The plan also analyzes implementation of two fish and water column invertebrates (FWCI) restoration alternatives for the Chandeleur Islands. The selected FWCI restoration alternative (FWCI Alternative 2) involves education, engagement, and communication with stakeholders to restore FWCI from human-use related impacts from fishing, boating, and ecotourism. The non-preferred FWCI restoration alternative would monitor fisheries populations through telemetry. The selected FWCI restoration alternative would result in primary benefits to injured species, as the engagement activities would promote sustainable fishing practices for injured species that reduce bycatch in commercial fisheries and would reduce post-release mortality in recreational fisheries, among other benefits. FWCI Restoration Alternative 3 would have resulted in only secondary, rather than primary, benefits by providing monitoring data.

The total estimated cost to implement the two selected alternatives is approximately $372,000,000, of which approximately $247,000,000 will come from the following DWH NRDA restoration type allocations:

• Louisiana TIG Wetlands, Coastal, and Nearshore Habitats: $150,000,000;

• Louisiana TIG Habitat Projects on Federally Managed Lands: $25,693,273;

• Louisiana TIG Submerged Aquatic Vegetation: $22,000,000;

• Louisiana TIG Birds: $30,000,000;

• Louisiana TIG Sea Turtles: $4,000,000;

• Open Ocean TIG Birds: $5,000,000; and

• Open Ocean TIG Fish and Water Column Invertebrates: up to $10,000,000.

Administrative Record

The documents comprising the administrative record for the Final RP/EA can be viewed electronically at https://www.doi.gov/deepwaterhorizon/adminrecord under folder 6.5.5.2.

Authority

The authority for this action is the Oil Pollution Act of 1990 (33 U.S.C. 2701 et seq.), its implementing Natural Resource Damage Assessment regulations found at 15 CFR part 990, and the National Environmental Policy Act of 1969 (42 U.S.C. 4321 et seq.).

Mary Josie Blanchard,
Department of the Interior, Director, Gulf Coast Restoration.

[FR Doc. 2026-03379 Filed 2-19-26; 8:45 am]

BILLING CODE 4333-15-P